DEPARTMENT OF ENERGY

Federal Energy Regulatory Commission

[Project No. 6951-018]

Tallassee Shoals, LLC.; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New License.

b. Project No.: 6951-018.

c. Date Filed: September 15, 2021.

d. Applicant: Tallassee Shoals, LLC.

e. Name of Project: Tallassee Shoals Hydroelectric Project (project).

f. Location: On the Middle Oconee River, in Athens-Clarke and Jackson Counties, Georgia. The project does not occupy any federal land.

g. Filed Pursuant to: Federal Power Act 16 U.S.C. 791(a)-825(r).

h. Applicant Contact: Walter Puryear, Tallassee Shoals, LLC, 2399 Tallassee Road, Athens, Georgia 30607; Phone at (706) 540-7621, or email at wpuryear@bellsouth.net.

i. FERC Contact: Michael Spencer at (202) 502-6093, or michael.spencer@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-6951-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. The Tallassee Shoals Project consists of: (1) a 365-foot-long, 25-foot-high concrete dam; (2) a 23-acre impoundment with a net storage capacity of 115 acre-feet, at 645 feet elevation; (3) a 100-kilowatt fixed Kaplan unit integral with the east end of the dam; (4) a 1,400-foot-long headrace canal from the dam to the powerhouse; (5) an 80-foot-long, 11-foot-diameter penstock; (6) a powerhouse containing a single 2.2-megawatt (MW) adjustable Kaplan unit; (7) a 75-foot-long tailrace; and (8) a 100-foot-long, 42-kilovolt transmission line. The project creates a 2,100-foot-long bypassed reach of the Middle Oconee River. The project's total capacity is 2.3 MW.

The current license requires Tallassee Shoals, LLC. to: (1) operate the project in run-of-river mode; (2) release a bypassed reach minimum flow of 70 cubic feet per second (cfs) all months of the year except May when the minimum flow is 138 cfs. The average annual generation of the project is approximately 6,100 megawatt-hours.

Tallassee Shoals, LLC. proposes to discontinue releasing the 138-cfs minimum flow currently required in the month of May and instead release the 70 cfs minimum flow, which is currently required from June through April, through May as well (i.e., through the entire year).

m. A copy of the application can be viewed on the Commission's website at http://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural Schedule: The application will be processed according to the following schedule. Revisions to the schedule will be made as appropriate.

Milestone | Target date
Deadline for filing comments, recommendations, preliminary terms and conditions, and preliminary fishway prescriptions | September 2022.
Deadline for filing reply comments | October 2022.

q. Final amendments to the application must be filed with the Commission no later than 30 days from the issuance date of this notice.

Dated: July 7, 2022.
Kimberly D. Bose,
Secretary.

[FR Doc. 2022-14927 Filed 7-12-22; 8:45 am]

BILLING CODE 6717-01-P